DEPARTMENT OF THE INTERIOR

Bureau of Land Management

[UT-010-1430-ET; UTU 42892]

Public Land Order No. 7567; Revocation of Public Land Order No. 62; Utah

AGENCY: Bureau of Land Management, Interior.

ACTION: Public land order.

SUMMARY: This order revokes a public land order in its entirety as to 106.83 acres of public land withdrawn for protection of manganese ore in support of prosecution of World War II. The withdrawal is no longer needed. The land will be opened to surface entry, mining, and mineral leasing.

EFFECTIVE DATE: June 19, 2003.

FOR FURTHER INFORMATION CONTACT: Nancy Demille, BLM Fillmore Field Office, 35 East 500 North, Fillmore, Utah 84631, 435-743-3127.

Order

By virtue of the authority vested in the Secretary of the Interior by Section 204 of the Federal Land Policy and Management Act of 1976, 43 U.S.C. 1714 (1994), it is ordered as follows:

1. Public Land Order No. 62, which withdrew land to protect manganese ore in support of prosecution of World War II, is hereby revoked in its entirety as it affects the following described land:

Salt Lake Meridian

T. 14 S., R. 11 W.,

Sec. 25, lots 3, 4, 5, and 6.

The area described contains 106.83 acres in Juab County.

2. At 10 a.m. on June 19, 2003, the land will be opened to the operation of the public land laws generally, subject to valid existing rights, the provisions of existing withdrawals, other segregations of record, and the requirements of applicable law. All valid applications received at or prior to 10 a.m. on June 19, 2003, shall be considered as simultaneously filed at that time. Those received thereafter shall be considered in the order of filing.

3. At 10 a.m. on June 19, 2003, the land will be opened to location and entry under the United States mining laws and to the operation of the mineral leasing laws, subject to valid existing rights, the provisions of existing withdrawals, other segregations of record, and the requirements of applicable law. Appropriation of any of the land described in this order under the general mining laws prior to the date and time of restoration is unauthorized. Any such attempted appropriation, including attempted adverse possession under 30 U.S.C. 38 (1994), shall vest no rights against the United States. State law governs acts required to establish a location and to initiate a right of possession where not in conflict with Federal law. The Bureau of Land Management will not intervene in disputes between rival locators over possessory rights since Congress has provided for such determinations in local courts.

Dated: April 25, 2003.
Rebecca W. Watson,
Assistant Secretary—Land and Minerals Management.

[FR Doc. 03-12600 Filed 5-19-03; 8:45 am]

BILLING CODE 4310-09-P